DEPARTMENT OF TRANSPORTATION

Federal Aviation Administration

14 CFR Part 71

[Docket No. FAA-2020-0512; Airspace Docket No. 20-AGL-10]

RIN 2120-AA66

Establishment of Area Navigation (RNAV) Routes T-301 and T-305; Northcentral United States

AGENCY: Federal Aviation Administration (FAA), DOT.

ACTION: Final rule.

SUMMARY: This action establishes area navigation (RNAV) routes T-301 and T-305 in the northcentral United States. The new RNAV routes expand the availability of RNAV routing in support of transitioning the National Airspace System (NAS) from ground-based to satellite-based navigation. Additionally, a portion of the new RNAV routes provide enroute structure where VHF Omnidirectional Range (VOR) Federal airway segments were removed due to the Cape Girardeau, MO, VOR being decommissioned in support of the FAA's VOR Minimum Operational Network (MON) program.

DATES: Effective date 0901 UTC, December 31, 2020. The Director of the Federal Register approves this incorporation by reference action under title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in title 49 of the United States Code. Subtitle I, section 106 describes the authority of the FAA Administrator. Subtitle VII, Aviation Programs, describes in more detail the scope of the agency's authority. This rulemaking is promulgated under the authority described in subtitle VII, part A, subpart I, section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2020-0512 in the Federal Register (85 FR 36172; June 15, 2020), establishing T-301 and T-305 to expand the availability of RNAV routing in support of transitioning the NAS from ground-based to satellite-based navigation. Additionally, portions of the new RNAV routes provide enroute structure where VHF Omnidirectional Range (VOR) Federal airway segments were removed due to the Cape Girardeau, MO, VOR being decommissioned in support of the FAA's VOR Minimum Operational Network (MON) program. Interested parties were invited to participate in this rulemaking effort by submitting written comments on the proposal. No substantive comments were received.

United States RNAV T-routes are published in paragraph 6011 of FAA Order 7400.11E dated July 21, 2020, and effective September 15, 2020, which is incorporated by reference in 14 CFR 71.1. The RNAV T-routes listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending title 14 Code of Federal Regulations (14 CFR) part 71 to establish RNAV routes T-301 and T-305. The new T-routes are described below.

T-301: T-301 is a new RNAV route that extends between the Cape Girardeau, MO, DME and the Peoria, IL, VORTAC. This T-route provides enroute routing in place of the recently removed V-313 airway segment between the Cape Girardeau, MO, DME and the Centralia, IL, VORTAC; routing adjacent to VOR Federal airway V-67 between the Centralia, IL, VORTAC and the Spinner, IL, VORTAC; and routing over VOR Federal airway V-129 between the Spinner, IL, VORTAC and the Peoria, IL, VORTAC.

T-305: T-305 is a new RNAV route that extends between the Cape Girardeau, MO, DME and the JIBKA, IN, waypoint. This T-route provides enroute routing adjacent to and slightly beyond the recently removed VOR Federal airway V-125 between the Cape Girardeau, MO, DME and the NIKEL fix; routing to transition northeastward to the TYMME, IL, waypoint (new) located near the Vandalia, IL, VORTAC; and routing adjacent to VOR Federal airway V-14 between the Vandalia, IL, VORTAC and the Terra Haute, IN, VORTAC to the JIBKA, IN, waypoint located approximately one nautical mile northwest of the Terra Haute VORTAC.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV routes T-301 and T305, to expand the availability of RNAV routing in support of transitioning the NAS from ground-based to satellite-based navigation, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6011 United States Area Navigation Routes.

* * * * *

* * * * *
T-301 Cape Girardeau, MO (CGI) to Peoria, IL (PIA) [New]
Cape Girardeau, MO (CGI) | DME | (Lat. 37°13′39.14″ N, long. 089°34′20.68″ W)
Centralia, IL (ENL) | VORTAC | (Lat. 38°25′12.00″ N, long. 089°09′32.39″ W)
TYMME, IL | WP | (Lat. 39°05′38.35″ N, long. 089°09′43.71″ W)
Spinner, IL (SPI) | VORTAC | (Lat. 39°50′23.04″ N, long. 089°40′39.85″ W)
Peoria, IL (PIA) | VORTAC | (Lat. 40°40′48.25″ N, long. 089°47′33.91″ W)
* * * * *
T-305 Cape Girardeau, MO (CGI) to JIBKA, IN [New]
Cape Girardeau, MO (CGI) | DME | (Lat. 37°13′39.14″ N, long. 089°34′20.68″ W)
AMART, IL | WP | (Lat. 38°11′06.83″ N, long. 089°47′24.15″ W)
TYMME, IL | WP | (Lat. 39°05′38.35″ N, long. 089°09′43.71″ W)
DELCO, IL | WP | (Lat. 39°21′22.57″ N, long. 087°54′39.56″ W)
JIBKA, IN | WP | (Lat. 39°30′08.93″ N, long. 087°16′26.74″ W)
* * * * *

Issued in Washington, DC, on October 14, 2020.
Scott M. Rosenbloom,
Acting Manager, Rules and Regulations Group.

[FR Doc. 2020-23081 Filed 10-22-20; 8:45 am]

BILLING CODE 4910-13-P